ENVIRONMENTAL PROTECTION AGENCY

40 CFR Part 52

[EPA-R06-OAR-2018-0811; FRL-9994-07-Region 6]

Air Plan Approval; Texas; Control of Air Pollution From Motor Vehicles

AGENCY: Environmental Protection Agency (EPA).

ACTION: Proposed rule.

SUMMARY: Pursuant to the Federal Clean Air Act, the Environmental Protection Agency (EPA) is proposing to approve revisions to the Texas State Implementation Plan (SIP) submitted by the Texas Commission on Environmental Quality. The revisions remove rules from the Texas SIP that address vehicle anti-tampering requirements and the Low Income Repair Assistance Program for certain participating counties.

DATES: Written comments should be received on or before July 8, 2019.

ADDRESSES: Submit your comments, identified by Docket No. EPA-R06-OAR-2018-0811, at https://www.regulations.gov or via email to paige.carrie@epa.gov. For additional information on how to submit comments see the detailed instructions in the ADDRESSES section of the direct final rule located in the rules section of this Federal Register.

FOR FURTHER INFORMATION CONTACT: Ms. Carrie Paige, 214-665-6521, paige.carrie@epa.gov.

SUPPLEMENTARY INFORMATION: In the final rules section of this Federal Register, the EPA is approving the Texas SIP submittal as a direct rule without prior proposal because the EPA views this as a noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule that is located in the rules section of this Federal Register.

Dated: May 28, 2019.
David Gray,
Acting Regional Administrator, Region 6.

[FR Doc. 2019-11761 Filed 6-5-19; 8:45 am]

BILLING CODE 6560-50-P